DEPARTMENT OF LABOR

Office of the Secretary

[Secretary's Order 10-2009]

Delegation of Authorities and Assignment of Responsibilities to the Director, Office of Workers' Compensation Programs

1. Purpose. To delegate authorities and assign responsibilities to the Director, Office of Workers' Compensation Programs

2. Authorities. This Order is issued under the authority of 5 U.S.C. 301 (Departmental Regulations); 29 U.S.C. 551 et seq. (Establishment of Department; Secretary; Seal); Reorganization Plan No. 6 1950 (5 U.S.C. App. 1 Reorg. Plan 6 1950); and the Authorities cited in Section 5 of this Order.

3. Directives Affected. Secretary's Order 1-2008 (Employment Standards Administration) is hereby canceled. All other Secretary's Orders and DOL directives (including policies and guidance) which reference Secretary's Orders 1-2008 or the Employment Standards Administration are amended to refer to this Order and/or Secretary's Orders governing the Office of Federal Contract Compliance Programs, the Wage and Hour Division or the Office of Labor-Management Standards, as appropriate.

4. Background. This Order is occasioned by the November 8, 2009 dissolution of the Employment Standards Administration (ESA) into its four constituent components: Wage and Hour Division; Office of Federal Contract Compliance Programs; Office of Workers' Compensation Programs; and Office of Labor-Management Standards. This Order cancels Secretary's Order 1-2008 and constitutes the Secretary's Order devolving certain authorities and responsibilities of ESA to the Office of Workers' Compensation Programs (OWCP). Specifically, this Order delegates authorities and assigns responsibilities to the Director, OWCP. The authorities and responsibilities specified below are consistent with the ESA redelegations and distributions of authorities and responsibilities to OWCP in effect at the time of this dissolution.

5. Delegation of Authority and Assignment of Responsibility.

A. The Director, Office of Workers' Compensation Programs is hereby delegated authority for carrying out the policies, programs, and activities of the Department of Labor, including those functions to be performed by the Secretary of Labor, under the designated provisions of the following statutes:

(1) The Federal Employees' Compensation Act, as amended and extended, 5 U.S.C. 8101 et seq., except 5 U.S.C. 8149, as it pertains to the Employees' Compensation Appeals Board.

(2) The War Hazards Compensation Act, as amended, 42 U.S.C. 1701, et seq.

(3) War Claims Act of 1948, as amended, 50 U.S.C. App 2003, et seq.

(4) The Longshore and Harbor Workers' Compensation Act, as amended and extended, 33 U.S.C. 901 et seq., except: 33 U.S.C. 919(d), with respect to administrative law judges in the Office of Administrative Law Judges; 33 U.S.C. 921(b), as it applies to the Benefits Review Board; and activities pursuant to 33 U.S.C. 941, assigned to the Assistant Secretary for Occupational Safety and Health.

(5) The Black Lung Benefits Act, as amended, 30 U.S.C. 901 et seq., including 26 U.S.C. 9501, except: 33 U.S.C. 919(d) as incorporated by 30 U.S.C. 932(a), with respect to administrative law judges in the Office of Administrative Law Judges; and 33 U.S.C. 921(b) as incorporated by 30 U.S.C. 932(a), as it applies to the Benefits Review Board.

(6) The Energy Employees Occupational Illness Compensation Program Act of 2000, as amended, 42 U.S.C. 7384, et seq., except 42 U.S.C. 7385s-15 as it pertains to the Office of the Ombudsman, and Executive Order 18719 (“Providing Compensation to America's Nuclear Weapons Workers”) of December 7, 2000.

(7) Such additional Federal acts that from time to time may assign to the Secretary or the Department duties and responsibilities similar to those imposed by the statutes listed under subparagraphs (1)-(6) of this paragraph, as directed by the Secretary.

B. The Solicitor of Labor is delegated authority and assigned responsibility for providing legal advice and assistance to all officers of the Department relating to the administration of the statutory provisions, regulations, and Executive Orders listed above. The bringing of legal proceedings under those authorities, the representation of the Secretary and/or other officials of the Department of Labor, and the determination of whether such proceedings or representations are appropriate in a given case, are delegated exclusively to the Solicitor.

6. Reservation of Authority and Responsibility.

A. The submission of reports and recommendations to the President and the Congress concerning the administration of the statutory provisions and Executive Orders listed above is reserved to the Secretary.

B. Nothing in this Order limits or modifies the delegation of authority and assignment of responsibility to the Administrative Review Board by Secretary's Order 01-2002 (September 24, 2002) or its extensions or successor orders.

C. Except as expressly provided, nothing in this Order limits or modifies the provisions of any other Order, including Secretary's Order 4-2006 (Office of Inspector General).

7. Redelegation of Authority. Except as otherwise provided by law, all of the authorities delegated in this Order may be redelegated.

8. Effective Date. This order is effective November 8, 2009.

Dated: November 6, 2009.
Hilda L. Solis,
Secretary of Labor.

[FR Doc. E9-27336 Filed 11-12-09; 8:45 am]

BILLING CODE 4510-23-P